DEPARTMENT OF ENERGY

Federal Energy Regulatory Commission

[Docket No. EL04-82-000]

NRG Power Marketing, Inc., Connecticut Jet Power LLC, Middletown Power LLC, and Montville Power LLC, Complainants v. ISO New England, Respondent; Notice of Complaint

February 12, 2004.

Take notice that on February 10, 2004, the NRG Companies filed a Complaint against ISO New England, Inc. (ISO-NE). The NRG Companies request that the Commission issue an order: (1) Finding that the ISO violated its Market Rules and Commission Orders by denying the NRG Companies Operating Reserve Payments in the real-time energy markets administered by the ISO, when the NRG Companies' generating units were directed by the ISO to provide Operating Reserves as Pool-Scheduled Resources for several Operating Days after the Operating Day in which the units Self-Scheduled; (2) directing ISO to pay $290,375.22 to NRG for Operating Reserve Payments withheld to date; and (3) directing the ISO to work towards modifying its market rules and software to guarantee that partially Self-Scheduled participants receive as-bid costs for the Pool-Scheduled increments of their output.

Any person desiring to be heard or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. The answer to the complaint and all comments, interventions or protests must be filed on or before the comment date. This filing is available for review at the Commission in the Public Reference Room or may be viewed on the Commission's Web site at http://www.ferc.gov using the “eLibrary” link. Enter the docket number excluding the last three digits in the docket number field to access the document. For assistance, please contact FERC Online Support at FERCOnlineSupport@ferc.gov or toll-free at (866) 208-3676, or for TTY, contact (202) 502-8659. The answer to the complaint, comments, protests and interventions may be filed electronically via the Internet in lieu of paper; see 18 CFR 385.2001(a)(1)(iii) and the instructions on the Commission's Web site under the “e-Filing” link. The Commission strongly encourages electronic filings.

Comment Date: February 20, 2004.

Linda Mitry,
Acting Secretary.

[FR Doc. E4-313 Filed 2-18-04; 8:45 am]

BILLING CODE 6717-01-P